DEPARTMENT OF TRANSPORTATION

Federal Highway Administration

Environmental Impact Statement: Chautauqua County, NY

AGENCY: Federal Highway Administration (FHWA), DOT.

ACTION: Revised notice of intent.

SUMMARY: The FHWA is issuing this revised notice to advise the public that FHWA will not be preparing an Environmental Impact Statement (EIS) for the proposed Millennium Parkway project in Chautauqua County, New York. A Notice of Intent to prepare an EIS was published in the Federal Register on December 27, 2007.

FOR FURTHER INFORMATION CONTACT: Jeffrey W. Kolb, Division Administrator, Federal Highway Administration, New York Division, Leo W. O'Brien Federal Building, 9th Floor, Clinton Avenue and North Pearl Street, Albany, New York 12207, Telephone: (518) 431-4127.

Or

Alan E. Taylor, Regional Director, NYSDOT Region 5; 100 Seneca Street, Buffalo NY 14203, Telephone: 716-847-3238.

Or

George P. Spanos, P.E., Director, CCDPF, 454 North Work Street, Falconer, New York 14733, Telephone: (716) 661-8400.

SUPPLEMENTARY INFORMATION: The FHWA, in cooperation with the New York State Department of Transportation (NYSDOT), and Chautauqua County Department of Public Facilities (CCDPF) will not prepare an EIS as previously intended on a proposal to progress the construction of the Millennium Parkway in Chautauqua County, New York. The purpose of the Millennium Parkway Project is to improve tractor-trailer truck traffic access to the industrial corridor, including the Chadwick Bay Industrial Park, from New York (NY) Route 60 (Bennett Road). Based upon further review of the project and related impacts it was determined that the scope of the project would be reduced to use an alignment that would be comprised of a combination of reconstruction of the existing portion of Talcott Street between NY Route 60 and CR 81, and the construction of a roadway on a new alignment, approximately 1000 meters through a previously disturbed, vacant area between CR 81 and CR 82. The improvements being considered will not have a significant impact on the environment. In light of the minimal environmental impacts a Categorical Exclusion with Documentation is being prepared to progress the project.

(Catalog of Federal Domestic Assistance Program Number 20.205, Highway Planning and Construction. The regulations implementing Executive Order 12372 regarding intergovernmental consultation on Federal programs and activities apply to this program.)

Authority: 23 U.S.C. 315; 23 CFR 771.123.

Issued on: February 24, 2009.
Jeffrey W. Kolb,
Division Administrator, Federal Highway Administration, Albany, New York.

[FR Doc. E9-4431 Filed 3-2-09; 8:45 am]

BILLING CODE 4910-22-P